DEPARTMENT OF JUSTICE

Office of Justice Programs

[OMB Number 1121-NEW]

Agency Information Collection Activities: Proposed Collection; Comment Request; Generic Clearance for Cognitive, Pilot and Field Studies for Bureau of Justice Statistics Data Collection Activities

ACTION: 60-day notice of information collection under review.

The Department of Justice (DOJ), Office of Justice Programs (OJP), Bureau of Justice Statistics (BJS) intends to request approval from the Office of Management and Budget (OMB) for a generic information collection clearance that will allow BJS to conduct a variety of cognitive, pilot, and field test studies. BJS will submit the request for review and approval in accordance with the Paperwork Reduction Act of 1995. The proposed notice of information collection is published to obtain comments from the public and affected agencies. Comments are encouraged and will be accepted for “sixty days” until November 13, 2012. This process is in accordance with 5 CFR 1320.10.

Over the next three years, BJS anticipates undertaking a variety of new surveys and data collections, as well as reassessing ongoing statistical projects, across a number of areas of criminal justice, including law enforcement, courts, corrections, and victimization. This work will entail development of new survey instruments, redesigning and/or modifying existing surveys, procuring administrative data from state and local government entities, and creating or modifying establishment surveys. In order to inform BJS data collection protocols, to develop accurate estimates of respondent burden, and to minimize respondent burden associated with each new or modified data collection, BJS will engage in cognitive, pilot and field test activities to refine instrumentation and data collection methodologies. BJS envisions using a variety of techniques, including but not limited to tests of different types of survey and data collection operations, focus groups, cognitive testing, pilot testing, exploratory interviews, experiments with questionnaire design, and usability testing of electronic data collection instruments.

Following standard Office of Management and Budget (OMB) requirements, BJS will submit a change request to OMB individually for every group of data collection activities undertaken under this generic clearance. BJS will provide OMB with a copy of the individual instruments or questionnaires (if one is used), as well as other materials describing the project. Currently, BJS anticipates the need to conduct testing and development work on at least ten (10) statistical projects, including the collection of administrative data from courts, law enforcement agencies, state criminal history repositories, social and victim services agencies, and local jails, a self-report survey of prison inmates, and establishment surveys of law enforcement agencies and corrections departments.

In compliance with the requirements of Section 3506(c)(2)(A) of the Paperwork Reduction Act of 1995, the Bureau of Justice Statistics is soliciting public comment on the information collection described above. If you have comments—especially on the estimated public burden—suggestions, or need additional information about the proposed information collection, please contact Erica Smith, Statistician, Bureau of Justice Statistics, 810 Seventh St. NW., Washington, DC 20531.

Written comments and suggestions from the public and affected agencies concerning the proposed collection of information are requested on:

• Whether the proposed collection of information is necessary for the proper performance of the functions of the agency, including whether the information will have practical utility;

• The accuracy of the agency's estimate of the burden of the proposed collection of information, including the validity of the methodology and assumptions used;

• The quality, utility, and clarity of the information to be collected; and

• Ways to minimize the burden of the collection of information on those who are to respond, including through the use of appropriate automated, electronic, mechanical, or other technological collection techniques or other forms of information technology, e.g., permitting electronic submission of responses.

• Overview of this information collection:

(1) Type of information collection: New collection.

(2) Title of the Form/Collection: BJS Generic Clearance for Cognitive, Pilot, and Field Test Studies.

(3) Agency form number, if any, and the applicable component of the department sponsoring the collection: Form numbers not available for generic clearance, Bureau of Justice Statistics, Office of Justice Programs, Department of Justice.

(4) Affected public who will be asked or required to respond, as well as a brief abstract: Administrators or staff of state and local agencies or programs in the relevant fields; administrators or staff of non-government agencies or programs in the relevant fields; individuals; policymakers at various levels of government.

(5) An estimate of the total number of respondents and the amount of time estimated for an average respondent to respond/reply: Specific estimates of the number of respondents and the average response time are not known for development work covered under a generic clearance. Estimates of overall burden for the ten (10) identified projects referenced above, as well as for other data collection projects that may benefit from development work under this clearance, are included in item 6 below.

(6) An estimate of the total public burden (in hours) associated with the collection: The total respondent burden for identified and future projects covered under this generic clearance over the 3-year clearance period is approximately 12,340 hours.

If additional information is required, contact: Jerri Murray, Department Clearance Officer, United States Department of Justice, Justice Management Division, Policy and Planning Staff, Two Constitution Square, 145 N Street NE., Suite 2E-508, Washington, DC 20530.

Dated: September 10, 2012.
Jerri Murray,
Department Clearance Officer, PRA, United States Department of Justice.

[FR Doc. 2012-22623 Filed 9-13-12; 8:45 am]

BILLING CODE 4410-18-P